DEPARTMENT OF HOMELAND SECURITY

Federal Emergency Management Agency

44 CFR Part 67

[Docket ID FEMA-2014-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flood source(s) | Location of referenced elevation | * Elevation in feet (NGVD) + elevation in feet (NAVD) # depth in feet above ground ‸ elevation in meters (MSL) modified | Communities affected
St. Louis County, Missouri, and Incorporated Areas Docket No.: FEMA-B-1062
Bonhomme Creek (Backwater from the Missouri River) | At the confluence with Caulks Creek | +465 | City of Chesterfield.
| Approximately 1,300 feet upstream of Chesterfield Airport Road | +465 |
Coldwater Creek | Approximately 400 feet downstream of Elsa Avenue | +554 | City of Woodson Terrace
| Just upstream of Isolda Avenue | +557 |
Dellwood Creek | Approximately 900 feet upstream of Bon Oak Drive | +485 | City of Dellwood.
| Approximately 1,450 feet upstream of Bon Oak Drive | +487 |
Engelholm Creek | Approximately 450 feet downstream of Bartmer Avenue | +498 | City of University City.
| Just upstream of Bartmer Avenue | +502 |
Grand Glaize East Creek | Approximately 1,200 feet upstream of Barrett Station Road | +472 | City of Des Peres.
Lemay Creek (Backwater from the Mississippi River) | Approximately 700 feet upstream of Krumm Road | +416 | Unincorporated Areas of St. Louis County.
| Approximately 2,000 feet upstream of Krumm Road | +416 |
Maline Creek (Backwater from the Mississippi River) | Approximately 0.5 miles downstream of St Cyr Road | +431 | City of Bellefontaine Neighbors, Village of Riverview.
| Approximately 1,300 feet downstream of St Cyr Road | +461 |
Mattese Creek (Backwater from the Mississippi River) | At the confluence with the Mississippi River | +415 | Unincorporated Areas of St. Louis County.
| Just downstream of Old Baumgartner Road | +415 |
Meramec River (Backwater from the Mississippi River) | At the confluence with the Mississippi River | +415 | Unincorporated Areas of St. Louis County.
| Approximately 2,000 feet upstream of Lemay Ferry Road | +415 |
Mississippi River Lower Reach | At the confluence with the Meramec River | +415 | Unincorporated Areas of St. Louis County.
| Approximately 1.0 mile upstream of Interstate 255 | +420 |
Mississippi River Upper Reach | Approximately 3.9 miles downstream of confluence with the Missouri River | +433 | Unincorporated Areas of St. Louis County.
| At confluence with the Missouri River | +434 |
Missouri River | At confluence with the Mississippi River | +434 | Unincorporated Areas of St. Louis County, City of Bridgeton, City of Chesterfield, City of Florissant, City of Hazelwood, City of Maryland Heights, City of Wildwood.
| Approximately 5.8 miles upstream of Interstate 64 | +476 |
Watkins Creek (Backwater from the Mississippi River) | At the confluence with the Mississippi River | +433 | Unincorporated Areas of St. Louis County.
| Approximately 1,250 feet upstream of Coal Bank Road | +433 |
Wildhorse Creek (Backwater from the Missouri River) | Just downstream of Centaur Road | +473 | City of Wildwood.
| Approximately 0.6 miles downstream of Wild Horse Creek Road | +473 |
* National Geodetic Vertical Datum.
+ North American Vertical Datum.
# Depth in feet above ground.
‸ Mean Sea Level, rounded to the nearest 0.1 meter.
ADDRESSES
City of Bellefontaine Neighbors
Maps are available for inspection at 9641 Bellefontaine Road, Bellefontaine Neighbors, MO 63137
City of Bridgeton
Maps are available for inspection at 11955 Natural Bridge Road, Bridgeton, MO 63044
City of Chesterfield:
Maps are available for inspection at 690 Chesterfield Parkway West, Chesterfield, MO 63017
City of Dellwood
Maps are available for inspection at 1415 Chambers Road, Dellwood, MO 63135
City of Des Peres
Maps are available for inspection at 12325 Manchester Road, Des Peres, MO 63131
City of Florissant
Maps are available for inspection at 955 Rue Saint Francois Street, Florissant, MO 63031
City of Hazelwood
Maps are available for inspection at 415 Elm Grove Lane, Hazelwood, MO 63042
City of Maryland Heights
Maps are available for inspection at 11911 Dorsett Road, Maryland Heights, MO 63043
City of University City
Maps are available for inspection at 6801 Delmar Boulevard, University City, MO 63130
City of Wildwood
Maps are available for inspection at 183 Plaza Drive, Wildwood, MO 63040
City of Woodson Terrace
Maps are available for inspection at 9351 Guthrie Avenue, Woodson Terrace, MO 63134
Unincorporated Areas of St. Louis County
Maps are available for inspection at 121 South Meramec Avenue, Clayton, MO 63105
Village of Champ
Maps are available for inspection at 121 South Meramec Avenue, Clayton, MO 63105
Village of Riverview
Maps are available for inspection at 9699 Lilac Drive, Riverview, MO 63137

(Catalog of Federal Domestic Assistance No. 97.022, “Flood Insurance.”)

Date: August 26, 2014.
Roy E. Wright,
Deputy Associate Administrator for Mitigation, Department of Homeland Security, Federal Emergency Management Agency.

[FR Doc. 2014-21925 Filed 9-12-14; 8:45 am]

BILLING CODE 9110-12-P